DEPARTMENT OF TRANSPORTATION

Federal Aviation Administration

Request for Public Comment, Morgantown Municipal Airport, Morgantown, WV

AGENCY: Federal Aviation Administration (FAA), DOT.

ACTION: Request for public comment.

SUMMARY: The Federal Aviation Administration is requesting public comment on the proposed release of 46.53 acres of land currently owned by the City of Morgantown, Sponsor for the Morgantown Municipal Airport, Morgantown, West Virginia. The parcel is located within the Sixth Ward District of the City of Morgantown, Morgantown, West Virginia. The site is a 47.00 acre portion of the larger Morgantown Municipal Airport property. The land is currently being used as a cross wind runway. It has been determined that this runway is no longer needed for safety or capacity. The property is not a vital part of, or necessary for the Sponsor's operation and development of the Morgantown Airport. Once released, the land will change to a non-aeronautical use and will be transferred to the West Virginia Army National Guard (“AR-WVARNG”). Thereafter, AR-WVARNG will construct or cause the construction of and operate a West Virginia Army National Guard Readiness Center on the property. The development of this property will also bring the construction of a roadway and utilities that will be needed for subsequent development of aviation facilities on a part of the airport that is now remote and without utilities or access. The airport land being released is not needed for airport development as shown on the Airport Layout Plan. Fair Market Value has been determined based upon an appraisal of the Property.

DATES: Comments must be received on or before November 15, 2010.

ADDRESSES: Comments on this application may be mailed or delivered in triplicate to the FAA at the following address: Connie Boley-Lilly, Program Specialist, Federal Aviation Administration, Beckley Airports Field Office, 176 Airport Circle, Room 101, Beaver, West Virginia 25813.

In addition, one copy of any comments submitted to the FAA must be mailed or delivered to Dan Boroff, City Manager of the City of Morgantown, Sponsor of Morgantown Municipal Airport at the following address: Dan Boroff, City Manager, City of Morgantown, Sponsor for Morgantown Municipal Airport, 389 Spruce Street, Morgantown, West Virginia 26505.

FOR FURTHER INFORMATION CONTACT: Connie Boley-Lilly, Program Specialist, Beckley Airport Field Office, (304) 252-6216 ext. 125, FAX (304) 253-8028.

SUPPLEMENTARY INFORMATION: The FAA proposes to rule and invites public comment on the request to release property at the Morgantown Municipal Airport, Morgantown, WV. Under the provisions of AIR 21 (49 U.S.C. 47108 (h)(2)).

The Morgantown Municipal Airport is proposing the release of approximately 46.53 acres of fee simple release to accommodate the construction of a West Virginia Army National Guard Readiness Center on the property. The crosswind runway, currently occupying the property, has been determined to be no longer need for safety and capacity at the airport. The release and sale of this property will allow the Sponsor to develop the roadway and utilities which will benefit this property, the hangar site, and the landside development site. This release will enhance the development of private aviation and commercial development of the east side of the airport.

Issued in Beckley, West Virginia, on October 1, 2010.
Matthew P. DiGiulian,
Manager, Beckley Airport Field Office, Eastern Region.

[FR Doc. 2010-25980 Filed 10-14-10; 8:45 am]

BILLING CODE 4910-13-P